DEPARTMENT OF HOMELAND SECURITY

Transportation Security Administration

[Docket No. TSA-2005-20118]

Intent To Request Extension From OMB of One Current Public Collection of Information: Maryland Three Airports: Enhanced Security Procedures for Operations at Certain Airports in the Washington, DC, Metropolitan Area Flight Restricted Zone

AGENCY: Transportation Security Administration, DHS.

ACTION: 60-Day notice.

SUMMARY: The Transportation Security Administration (TSA) invites public comment on one currently approved Information Collection Request (ICR), Office of Management and Budget (OMB) control number 1652-0029, that we will submit to OMB for an extension in compliance with the Paperwork Reduction Act (PRA). The ICR describes the nature of the information collection and its expected burden. The collection is necessary to comply with a requirement for individuals to successfully complete a security threat assessment before operating an aircraft or serving as an airport security coordinator at one of the Maryland Three airports.

DATES: Send your comments by January 13, 2025.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0029; Maryland Three Airports: Enhanced Security Procedures for Operations at Certain Airports in the Washington, DC Metropolitan Area Flight Restricted Zone, 49 CFR part 1562. TSA's regulations impose requirements and security procedures on airport operators of three airports in the State of Maryland that are located within the Washington, DC, Metropolitan Area Flight Restricted Zone (Maryland Three Airports),¹ and on individuals operating aircraft to or from these airports. The information collected is used to determine compliance with 49 CFR part 1562, subpart A.

¹ The Maryland Three Airports are: College Park Airport, Potomac Airfield, and Washington Executive/Hyde Field. However, on November 30, 2022, Washington Executive/Hyde Field ceased operations following a bankruptcy sale of the airport property. Nevertheless, TSA will continue to use TSA Form 418 to collect the information as required by 49 CFR part 1562, subpart A.

Part 1562, subpart A, allows an individual who is approved by TSA to operate an aircraft to or from one of the Maryland Three Airports or to serve as an airport security coordinator at one of these airports. In order to be approved, a pilot or airport security coordinator applicant is required to submit information and successfully complete a security threat assessment. As part of this threat assessment, the applicant must submit their fingerprints and undergo a criminal history records check and a check of Government terrorist watch lists and other databases to determine whether the individual poses, or is suspected of posing, a threat to transportation or national security. An applicant will not receive TSA's approval under this analysis if TSA determines or suspects the applicant of being a threat to national or transportation security.

Applicants can be fingerprinted at the Ronald Reagan Washington National Airport's badging office and any participating airport badging office or law enforcement office located nearby to the applicant's residence or place of work. Airport security coordinators and pilots must complete the applicable sections of TSA Form 418, which include but are not limited to the following: full name; Social Security number; date of birth; address; phone number and email; current and valid airman certificate or current and valid student pilot certificate; current medical certificate; a list of the make, model, and Federal Aviation Administration (FAA) aircraft registration number for each aircraft the pilot intends to operate at Maryland Three Airports; one form of Government-issued picture ID; the certificate of completion of the FAA DC Special Flight Rules Area training; and fingerprints. Although not required by the rule, TSA asks applicants to voluntarily provide an email address and emergency contact phone number to facilitate immediate communication that might be necessary when operating in the Flight Restricted Zone or helpful during the application process.

TSA also provides an option to submit certain documents for the application by email. For example, applicants no longer need to submit the required documentation to the FAA Flight Standards District Offices in-person, but may submit the information to TSA electronically at mdthree@tsa.dhs.gov. This option does not apply to fingerprints, which must continue to be collected in-person at the various locations.

TSA receives approximately 369 applications (366 pilots and 3 airport security coordinators) annually and estimates applicants spend approximately 5.75 hours to prepare and submit the information to TSA, which is a total annual burden of 2,121.75 hours.

Christina A. Walsh,
TSA Paperwork Reduction Act Officer, Information Technology.

[FR Doc. 2024-26072 Filed 11-8-24; 8:45 am]

BILLING CODE 9110-05-P